DEPARTMENT OF HEALTH AND HUMAN SERVICES

Administration on Aging

Agency Information Collection Activities: Proposed Submission to the Office of Management and Budget (OMB) for Clearance; Comment Request; Reinstatement of Previously Approved Information Collection

AGENCY: Administration on Aging, HHS.

The Administration on Aging (AoA), Department of Health and Human Services, provides an opportunity for comment on the following proposal for the collection of information in compliance with the Paperwork Reduction Act (PRA; Pub. L. 96-511):

Title of Information Collection: Reporting Requirements for the Alzheimer's Disease Demonstration Grants to States Program and GPRA data.

Type of Request: Reinstatement of a previously approved collection for which approval has expired.

Use: Data on persons served, services provided, and program staff will be collected semi-annually from participants in the Alzheimer's Disease Demonstration Grants to States Program. Data will be used for program modification and evaluation, annual Department reports, and a final report to Congress as set forth by congressional statute.

Frequency: Semi-annually.

Respondents: Agencies of State Governments that have been designated by the governor as the sole applicant for the State and who have applied for a grant under this program.

Estimated Number of Responses: 50/year.

Total Estimated Burden Hours: 1,000/year.

Additional Information or Comments: The Administration on Aging plans to submit to the Office of Management and Budget for reinstatement of a previously approved collection for which approval has expired, for the Alzheimer's Disease Demonstration Grants to States Program, pursuant to requirements set forth by congressional statute. Written comments and recommendations for the proposed information collection should be sent within 60 days of the publication of this notice directly to the following address: Office of Program Development, Administration on Aging, Attention: Melanie Starns, 330 Independence Avenue, SW., Rm 4270, Washington, DC 20201.

Dated: June 18, 2001.
Norman L. Thompson,
Acting Principal Deputy Assistant Secretary for Aging.

[FR Doc. 01-15728 Filed 6-21-01; 8:45 am]

BILLING CODE 4154-01-U